INTERNATIONAL TRADE COMMISSION

[Investigation No. 337-TA-1182]

Certain Argon Plasma Coagulation System Probes, Their Components, and Other Argon Plasm Coagulation System Components for Use Therewith; Institution of Investigation

AGENCY: U.S. International Trade Commission.

ACTION: Notice.

SUMMARY: Notice is hereby given that a complaint was filed with the U.S. International Trade Commission on October 7, 2019, under section 337 of the Tariff Act of 1930, as amended, on behalf of Erbe Elektromedizin GmbH of the Republic of Germany and Erbe USA, Inc. of Marietta, Georgia. The complaint alleges violations of section 337 based upon the importation into the United States, the sale for importation, and the sale within the United States after importation of certain argon plasma coagulation system probes, their components, and other argon plasma coagulation system components for use therewith by reason of infringement of certain claims of U.S. Patent No. 7,311,707 (“the '707 patent”); U.S. Patent No. 7,717,911 (“the '911 patent”); U.S. Patent No. 9,510,889 (“the '889 patent”); U.S. Patent No. 9,603,653 (“the '653 patent”); and U.S. Patent No. D577,671 (“the '671 patent”). The complaint further alleges that an industry in the United States exists as required by the applicable Federal Statute.

The complainants request that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW, Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov. The public record for this investigation may be viewed on the Commission's electronic docket (EDIS) at https://edis.usitc.gov.

FOR FURTHER INFORMATION CONTACT: Pathenia Proctor, Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2019).

Scope of Investigation: Having considered the complaint, the U.S. International Trade Commission, on November 4, 2019, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 1 and 5-8 of the '707 patent; claims 1, 3-6, and 9 of the '911 patent; claims 1-10, 14, 16-22, and 24-27 of the '889 patent; claims 1-3, 5, 6, 8-10, 13, 14, and 16 of the '653 patent; and the claim of the '671 patent; and whether an industry in the United States exists as required by subsection (a)(2) of section 337;

(2) Pursuant to section 210.10(b)(1) of the Commission's Rules of Practice and Procedure, 19 CFR 210.10(b)(1), the plain language description of the accused products or category of accused products, which defines the scope of the investigation, is “argon plasma coagulation (“APC”) probes for use in endoscopic procedures, their components, and other APC system components for use with those probes”;

(3) For the purpose of the investigation so instituted, the following are hereby named as parties upon which this notice of investigation shall be served:

(a) The complainants are:

Erbe Elektromedizin GmbH, Waldhörnlestrasse 17, 72072 Tübingen, Republic of Germany

Erbe USA, Inc., 2225 Northwest Parkway, Marietta, GA 30067

(b) The respondents are the following entities alleged to be in violation of section 337, and is/are the parties upon which the complaint is to be served:

Olympus Corporation, Shinjuku Monolith, 3-1 Nishi-Shinjuku 2-chome, Shinjuku-ku, Tokyo 163-0914, Japan

Olympus Corporation of the Americas, 3500 Corporate Parkway, Center Valley, PA 18034-0610

Olympus America, Inc., 3500 Corporate Parkway, Center Valley, PA 18034-0610

Olympus Surgical Technologies Europe, Kuehnstrasse 61, 22045 Hamburg, Republic of Germany

Olympus Winter & lbe GmbH, Kuehnstrasse 61, 22045 Hamburg Republic of Germany

Olympus KeyMed Group Limited, KeyMed House, Stock Road, Southend-on-Sea, ESSEX, SS2 5QH, United Kingdom

KeyMed (Medical & Industrial Equipment) Ltd., KeyMed House, Stock Road, Southend-on-Sea, ESSEX, SS2 SQH, United Kingdom

Olympus Bolton, 18 Queensbrook, BOLTON, BL1 4AY, United Kingdom

Olympus Surgical Technologies Europe | Cardiff, Fortran Road, St. Mellons, CARDIFF, CF3 0LT, United Kingdom

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 4, 2019.
Lisa Barton,
Secretary to the Commission.

[FR Doc. 2019-24371 Filed 11-7-19; 8:45 am]

BILLING CODE 7020-02-P